DEPARTMENT OF TRANSPORTATION

Federal Aviation Administration

Public Notice of Airport Improvement Program Property Release; Bremerton National Airport, Bremerton, Washington

AGENCY: Federal Aviation Administration (FAA), Transportation (DOT).

ACTION: Notice of request to release airport improvement program property.

SUMMARY: Notice is being given that the FAA is considering a request from the Port of Bremerton, Washington to waive the Airport Improvement Program property requirements for approximately 20.65 acres of airport property located at Bremerton National Airport, Bremerton, Washington.

DATES: Comments are due within 30 days of the date of the publication of this notice in the Federal Register. Emailed comments can be provided to Ms. Mandi M. Lesauis, Compliance Specialist, Northwest Mountain Region, mandi.lesauis@faa.gov.

FOR FURTHER INFORMATION CONTACT: Mandi M. Lesauis, Compliance Specialist, Northwest Mountain Region, mandi.lesauis@faa.gov, (206) 231-4140.

SUPPLEMENTARY INFORMATION: The subject properties are located in the southwest section of the airport. This release will allow the Port of Bremerton to sell 20.65 acres to develop Airport Industrial Way and provide access to industrial airport properties. There will be proceeds generated from the proposed release of this property for capital improvements at the airport. The Port of Bremerton, Washington will receive not less than fair market value for the property and the revenue generated from the sale will be used for airport purposes. It has been determined through study that the subject 20.65 acres will not be needed for aeronautical purposes.

Authority: Title 49.U.S.C. 47153(c).

Issued in Des Moines, Washington, on May 24, 2023.
Warren D. Ferrell,
Manager, Seattle Airports District Office.

[FR Doc. 2023-11457 Filed 5-30-23; 8:45 am]

BILLING CODE 4910-13-P